FARM CREDIT ADMINISTRATION

12 CFR Part 620

RIN 3052-AC19

Disclosure to Shareholders; Correction

AGENCY: Farm Credit Administration.

ACTION: Correcting amendment.

SUMMARY: The Farm Credit Administration (FCA) published a final rule (71 FR 5740, February 2, 2006) that amended the regulations affecting the governance of the Farm Credit System. This document corrects a nonsubstantive error in the final rule.

EFFECTIVE DATE: April 5, 2006.

FOR FURTHER INFORMATION CONTACT: Cindy R. Nicholson, Technical Editor, Office of General Counsel, Farm Credit Administration, McLean, VA 22102-5090, (703) 883-4020, TTY (703) 883-4020.

SUPPLEMENTARY INFORMATION: In revising § 620.5(i)(2)(i), we inadvertently omitted the last two paragraphs in the final rule as published at 71 FR 5740, February 2, 2006.

List of Subjects in 12 CFR Part 620

Accounting, Agriculture, Banks, banking, Reporting and recordkeeping requirements, Rural areas.

Accordingly, 12 CFR part 620 is corrected by making the following correcting amendment:

PART 620—DISCLOSURE TO SHAREHOLDERS

1. The authority citation for part 620 continues to read as follows:

Authority: Secs. 5.17, 5.19, 8.11 of the Farm Credit Act (12 U.S.C. 2252, 2254, 2279aa-11) sec. 424 of Pub. L. 100-233, 101 Stat. 1568, 1656.

Subpart B—Annual Report to Shareholders

2. Amend § 620.5(i)(2)(i) by adding paragraphs (E) and (F) to read as follows:

§ 620.5 Contents of the annual report to shareholders.

* * * * *

(i)(2)(i) * * *

(E) Compensation amounts reported under the category “Other” (column (f)) shall reflect the dollar value of all other compensation not properly reportable in any other column. Items reported in this column shall be specifically identified and described in a footnote to the table. Such compensation includes, but is not limited to:

(1) The amount paid to the senior officer pursuant to a plan or arrangement in connection with the resignation, retirement, or termination of such officer's employment with the institution; or

(2) The amount of contributions by the institution on behalf of the senior officer to a vested or unvested defined contribution plan unless the plan is made available to all employees on the same basis.

(F) Amounts displayed under “Total” (column (g)) shall reflect the sum total of amounts reported in columns (c), (d), (e), and (f).

* * * * *

Dated: January 25, 2007.
Roland E. Smith,
Secretary, Farm Credit Administration Board.

[FR Doc. E7-1533 Filed 1-30-07; 8:45 am]

BILLING CODE 6705-01-P